DEPARTMENT OF THE INTERIOR

National Park Service

[NPS-WASO-PCE-COR-20800; PPWOPCADC0, PNA00RT14.GT0000 (166)]

Proposed Information Collection; National Park Service Rivers, Trails, and Conservation Assistance Program Application

AGENCY: National Park Service, Interior.

ACTION: Notice; request for comments.

SUMMARY: We (National Park Service, NPS) will ask the Office of Management and Budget (OMB) to approve the information collection described below. As required by the Paperwork Reduction Act of 1995 and as part of our continuing efforts to reduce paperwork and respondent burden, we invite the general public and other Federal agencies to take this opportunity to comment on this information collection. We may not conduct or sponsor and a person is not required to respond to a collection of information unless it displays a valid OMB control number.

DATES: Please submit your comment on or before June 24, 2016.

ADDRESSES: Please send your comments on the ICR to Madonna L. Baucum, Information Collection Clearance Officer, National Park Service, 12201 Sunrise Valley Drive, Room 2C114, Mail Stop 242, Reston, VA 20192 (mail); or madonna_baucum@nps.gov (email). Please reference “1024-New RTCA” in the subject line.

FOR FURTHER INFORMATION CONTACT: Stephan Nofield, Rivers, Trails, and Conservation Assistance Program Manager, National Park Service, Department of the Interior, 1201 Eye St. NW., Washington, DC 20005. You may send an email to stephan_nofield@nps.gov or via fax at (202) 371-5179.

SUPPLEMENTARY INFORMATION:

I. Abstract

The purpose of this information collection is to enable members of the general public to apply for technical assistance provided by the NPS Rivers, Trails, and Conservation Assistance (RTCA) Program. The information collected will be used by the NPS to evaluate the applications for technical assistance. The RTCA Program draws its authority from three important pieces of legislation, the Wild and Scenic Rivers Act (16 U.S.C. 1271 through 1287), the National Trails System Act (16 U.S.C. 1241 through 1249), and the Outdoor Recreation Act of 1963 (16 U.S.C. 4601-1 through 4601-3).

The RTCA Program is the community assistance service of the NPS. RTCA supports community-led natural resource conservation and outdoor recreation projects. Additionally, NPS staff provide technical assistance to communities to conserve rivers, preserve open space, and develop trails and greenways and other conservation and outdoor recreation community initiatives.

The RTCA Program collects the following as part of the application package to request technical assistance:

• Completed application form (NPS Form 10-1001 (Rev. 04/2016));

• Site location map;

• At least three (3) letters of commitment; and

• Supplementary information to help the NPS learn more about the project (background documents, examples of media coverage, additional support letters, maps, list of links to resources, project photos, etc.).

II. Data

OMB Control Number: 1024-New.

Title: National Park Service Rivers, Trails, and Conservation Assistance Program Application.

Form(s): NPS Form 10-1001, “Application for Assistance”.

Type of Request: Existing collection in use without approval.

Description of Respondents: Businesses; community organizations; educational institutions; nonprofit organizations, and state, tribal, and local governments.

Respondent's Obligation: Required to obtain benefits.

Frequency of Collection: On occasion.

Estimated Number of Annual Responses: 500.

Completion Time per Response: 45 minutes.

Estimated Annual Burden Hours: 375.

Estimated Annual Reporting and Recordkeeping “Non-Hour Cost”: None.

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: April 15, 2016.
Madonna L. Baucum,
Information Collection Clearance Officer, National Park Service.

[FR Doc. 2016-09531 Filed 4-22-16; 8:45 am]

BILLING CODE 4310-EH-P